DEPARTMENT OF HOMELAND SECURITY

Coast Guard

[Docket No. USCG-USCG-2014-0692]

Merchant Marine Personnel Advisory Committee; Vacancies

AGENCY: Coast Guard, DHS.

ACTION: Request for applications.

SUMMARY: The Coast Guard seeks applications for membership on the Merchant Marine Personnel Advisory Committee. This Committee advises the Secretary of the Department of Homeland Security on matters related to personnel in the U.S. merchant marine, including but not limited to training, qualifications, certification, documentation, and fitness standards.

DATES: Applicants should submit a cover letter and resume in time to reach the Alternate Designated Federal Officer on or before December 8, 2014.

ADDRESSES: Applicants should send their cover letter and resume to the following address: Commandant (CG-OES-1), ATTN Merchant Marine Personnel Advisory Committee, US Coast Guard Stop 7509, 2703 Martin Luther King Jr. Ave. SE., Washington, DC 20593-7509; or by faxing (202) 372-8382; or by emailing to davis.j.breyer@uscg.mil. This notice is available in our online docket, USCG-2014-0692, at http://www.regulations.gov.

FOR FURTHER INFORMATION CONTACT: Davis J. Breyer, Alternate Designated Federal Officer of the Merchant Marine Personnel Advisory Committee; telephone 202-372-1445 or email at davis.j.breyer@uscg.mil.

SUPPLEMENTARY INFORMATION: The Merchant Marine Personnel Advisory Committee is an advisory committee established under the Secretary's authority in section 871 of The Homeland Security Act of 2002, (Title 6, United States Code, section 451). This Committee is established in accordance with and operates under the provisions of the Federal Advisory Committee Act (Title 5, United States Code, Appendix, Pub. L. 92-463, 86 Statute 770, as amended). The Merchant Marine Personnel Advisory Committee advises the Secretary of the Department of Homeland Security on matters relating to personnel in the U.S. merchant marine, including but not limited to training, qualifications, certification, documentation, and fitness standards. The Committee will advise, consult with, and make recommendations reflecting its independent judgment to the Secretary.

The Merchant Marine Personnel Advisory Committee is expected to meet approximately twice a year as called for by its charter, once at or near Coast Guard Headquarters, Washington, DC, and once at a location outside of Washington, DC. It may also meet for extraordinary purposes. Its subcommittees and working groups may also meet to consider specific tasks as required.

We will consider applications for the following six positions that expire or become vacant on June 1, 2015: Two positions for marine educators, one of whom will represent the viewpoint of maritime training institutions other than State or Federal Maritime Academies and also represent the viewpoint of the small vessel industry, and one representing the viewpoint of State Maritime Academies; one position for a member drawn from the general public; one position for an engineering officer who is licensed as a Chief Engineer any horsepower; and two positions for deck officers, one of whom is a licensed merchant marine deck officer of oceans any gross tons, the other licensed for inland or river route with limited or unlimited tonnage, and one of whom must have a master's license or a master of towing vessels license.

If you are selected as a member from the general public, you will be appointed and serve as a Special Government Employee as defined in section 202(a) of Title 18, United States Code. As a candidate for appointment as a Special Government Employee, applicants are required to complete a Confidential Financial Disclosure Report (OGE Form 450). A completed OGE Form 450 is not releasable to the public except under an order issued by a Federal court or as otherwise provided under the Privacy Act (5 U.S.C. 552a). Only the Designated Agency Ethics Official or his or her designee may release a Confidential Financial Disclosure Report. Applicants can obtain this form by going to the Web site of the Office of Government Ethics (www.oge.gov) or by contacting the individual listed above. Applications for a member drawn from the general public which are not accompanied by a completed OGE-Form 450 will not be considered.

Registered lobbyists are not eligible to serve on federal advisory committees. Registered lobbyists are lobbyists required to comply with provisions contained in the Lobbying Disclosure Act of 1995 (Pub. L. 104-65 as amended).

Each Merchant Marine Personnel Advisory Committee member serves a term of office of up to three years. Members may be considered to serve consecutive terms. All members serve without compensation from the Federal Government; however, upon request, they may receive travel reimbursement and per diem.

The Department of Homeland Security does not discriminate in selection of Committee members on the basis of race, color, religion, sex, national origin, political affiliation, sexual orientation, gender identity, marital status, disability and genetic information, age, membership in an employee organization, or any other non-merit factor. The Department of Homeland Security strives to achieve a widely diverse candidate pool for all of its recruitment actions.

If you are interested in applying to become a member of the Committee, send your cover letter and resume to Davis J. Breyer, Alternate Designated Federal Officer of the Merchant Marine Personnel Advisory Committee by mail, fax, or email according to the instructions in the ADDRESSES section by the deadline in the DATES section of this notice. Indicate the position you wish to fill and specify your area of expertise, knowledge, and experience that qualifies you to serve on the Merchant Marine Personnel Advisory Committee. Note that during the vetting process, applicants may be asked to provide date of birth and social security number.

Dated: October 3, 2014.
J. G. Lantz,
Director of Commercial Regulations and Standards.

[FR Doc. 2014-24013 Filed 10-7-14; 8:45 am]

BILLING CODE 9110-04-P